DEPARTMENT OF THE INTERIOR

National Park Service

Information Collection; Request for Extension

AGENCY: National Park Service, Interior.

ACTION: Notice of submission to the Office of Management and Budget of a request for extension of a currently approved information collection, and request for public comments.

SUMMARY: In compliance with the Paperwork Reduction Act of 1995, the National Park Service (NPS) requests public comments on its request for an extension of a currently approved information collection (OMB Control # 1024-0233) for NPS Leasing Regulations at 36 CFR part 18, concerning the leasing of historic properties as authorized by law.

DATES: The Office of Management and Budget (OMB) has up to 60 days to approve or disapprove the information collection but may respond after 30 days. Therefore, public comments should be submitted to OMB by July 6, 2004 in order to be assured of consideration.

ADDRESSES: You may submit comments directly to the Desk Officer for the Department of the Interior, Office of Information and Regulatory Affairs, OMB, by fax at (202) 395-6566, or via e-mail at OIRA_DOCKET@omb.eop.gov. Please also mail or hand carry a copy of your comments to Anthony Sisto, Concession Program Manager, National Park Service, 1849 C Street, NW. (2410), Washington, DC 20240, or by e-mail to Tony_Sisto@nps.gov. Copies of the full Information Collection Request can be obtained from Erica Smith-Chavis at National Park Service, 1849 C Street, NW. (2410), Washington, DC 20240, or by phone at (202) 513-7144, or by e-mail at Erica_Smith@nps.gov.

SUPPLEMENTARY INFORMATION: Title: NPS Leasing Program—36 CFR part 18.

OMB Control Number: 1024-0233.

Expiration Date of Approval: April 30, 2004.

Type of Request: Extension of a currently approved information collection.

Abstract: The Office of Management and Budget (OMB) regulations which implement provisions of the Paperwork Reduction Act of 1995 (Pub. L. 104-13) require that interested members of the public and affected agencies have an opportunity to comment on information collection and recordkeeping activities (see 5 CFR 1320.8(d)). NPS has submitted a request to OMB to renew approval of the collection of information in 36 CFR part 18 regarding the NPS Leasing Program. NPS is requesting a 3-year extension of the OMB approval for this information collection activity.

An agency may not conduct or sponsor, and a person is not required to respond to, a collection of information unless it displays a currently valid OMB control number. The OMB control number for this collection of information is 1024-0233.

As required under 5 CFR 1320.8(d), a Federal Register notice soliciting comments on this collection of information was published on January 22, 2004 (Pages 3171-3172). No comments were received. This notice provides the public with an additional 30 days in which to comment. The information is being collected to meet the requirements of section 802 of the National Parks Omnibus Management Act of 1998, concerning the legislative authority, policies, and requirements for the solicitation, award, and administration of National Park Service leases for property located within areas of the national park system.

Bureau Form Number: None.

Frequency of Collection: Once.

Description of Respondents: Persons or entities seeking a leasing opportunity with the National Park Service.

Total Annual Responses: 627.

Estimated Average Burden Hours Per Response: 7.

Total Annual Burden Hours: 4,392.

We specifically request your comments on (1) The need for the collection of information for the performance of the functions of the agency; (2) the accuracy of the agency's burden estimates; (3) ways to enhance the quality, utility, and clarity of the information collection; and (4) ways to minimize the information collection burden on respondents, such as use of automated means of collection of the information. Please refer to OMB control number 1024-0233 in all correspondence.

All comments will become a matter of public record. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: April 23, 2004.
Leonard E. Sterne,
NPS Information Collection Clearance Officer, Acting Washington Administrative Program Center.

[FR Doc. 04-12593 Filed 6-2-04; 8:45 am]

BILLING CODE 4312-53-M